NATIONAL AERONAUTICS AND SPACE ADMINISTRATION

[Notice (08-038)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: April 29, 2008.

FOR FURTHER INFORMATION CONTACT: Randy Heald, Patent Counsel, Kennedy Space Center, Mail Code CC-A, Kennedy Space Center, FL 32899; telephone (321) 867-7214; fax (321) 867-1817.

NASA Case No. KSC-12697-2: A New Approach For Achieving Flame Retardancy While Retaining Physical Properties In A Compatible Polymer Matrix;

NASA Case No. KSC-12697-3: A New Approach For Achieving Flame Retardancy While Retaining Physical Properties In A Compatible Polymer Matrix;

NASA Case No. KSC-13088: Improved Thermal Reactivity Of Hydrogen Sensing Pigments In Manufactured Polymer Composites;

NASA Case No. SSC-00247: Monitoring Method And Apparatus Using Asynchronous, One-Way Transmission From Sensor To Base Station.

Dated: April 23, 2008.
Keith T. Sefton,
Deputy General Counsel, Administration and Management.

[FR Doc. E8-9369 Filed 4-28-08; 8:45 am]

BILLING CODE 7510-13-P